DEPARTMENT OF DEFENSE

Office of the Secretary

[Transmittal No. 25-96]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-96, Policy Justification, and Sensitivity of Technology.

Dated: January 22, 2026.
Stephanie J. Bost,
Alternate OSD Federal Register Liaison Officer, Department of Defense.

BILLING CODE 6001-FR-P

BILLING CODE 6001-FR-C

Transmittal No. 25-96

Notice of Proposed Issuance of Letter of Offer Pursuant to Section 36(b)(1) of the Arms Export Control Act, as amended

(i) Prospective Purchaser: Government of Peru

(ii) Total Estimated Value:

Major Defense Equipment * | $1.81 billion
Other | $1.61 billion
TOTAL | $3.42 billion

Funding Source: National Funds

(iii) Description and Quantity or Quantities of Articles or Services under Consideration for Purchase:

Major Defense Equipment (MDE):

Ten (10) F-16C Block 70 aircraft

Two (2) F-16D Block 70 aircraft

Fourteen (14) F110-GE-129 engines (12 installed, 2 spares)

Fourteen (14) Improved Programmable Display Generators (12 installed, 2 spares)

Twelve (12) AIM-120C-8 Advanced Medium Range Air-to-Air Missiles (AMRAAM)

Fifty-two (52) LAU-129 guided missile launchers (48 installed, 4 spares)

Twelve (12) M61A1 anti-aircraft guns

Fourteen (14) Embedded Global Positioning System Inertial Navigation Systems (12 installed, 2 spares)

Fourteen (14) AN/APG-83 active electronically scanned array Scalable Agile Beam Radars (12 installed, 2 spares)

Fourteen (14) Modular Mission Computers 7000AH (or next generation mission computer equivalent) (12 installed, 2 spares)

Twelve (12) AIM-9X Block II Sidewinder missiles

Two (2) AIM-9X Block II Sidewinder tactical guidance units

One (1) AIM-9X Block II Sidewinder Captive Air Training Missile (CATM) guidance unit

Two (2) AIM-9X Block II Sidewinder CATMs

Fourteen (14) Multifunctional Information Distribution System-Joint Tactical Radio Systems (12 installed, 2 spares)

Non-Major Defense Equipment:

The following non-MDE items will also be included: Infrared Search and Track systems; missile warning systems; AN/ALQ-254 Viper Shield or equivalent electronic warfare systems; AN/AAQ-28 Litening targeting pods; Cartridge Actuated Devices/Propellant Actuated Devices (CAD/PAD); AIM-120C-8 AMRAAM CATMs; Joint Helmet Mounted Cueing Systems II (JHMCS II) helmet-mounted displays; ammunition; cartridges, chaffs, and flares; weapons support equipment; embedded communications security devices; AN/ALE-47 airborne countermeasures dispenser systems; countermeasure processors, sequencer switching units, and Control Display Units; AN/APX-127 advanced identification friend or foe or equivalent; AN/ARC-238 radios; KIV-78A and KY-58M cryptographic devices; AN/PYQ-10 Simple Key Loaders; night vision devices (NVD) and NVD intensifier tubes; ADU-890 and ADU-891 adaptor group computer test sets; Joint Mission Planning System; pylons, launcher adapters, weapon interfaces, and bomb and ejection racks; fuel tanks; Precision Measurement Equipment Laboratory (PMEL) and calibration support; Common Munitions Built-in-Test Reprogramming Equipment; targeting systems; spare and repair parts, consumables, and accessories; repair and return support; aircraft, engine, ground, and pilot life support equipment; classified and unclassified computer program identification number systems; classified and unclassified software and software support; classified and unclassified publications, manuals, and technical documentation; National Geospatial-Intelligence Agency (NGA) maps and mapping data; personnel training and training equipment, simulators, and training devices; studies and surveys; facilities and construction support transportation, ferry, and fuel support; United States (U.S.) Government and contractor engineering, technical, and logistics support services; and other related elements of logistics and program support.

(iv) Military Department: Air Force (PE-D-SAA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: September 15, 2025

* as defined in Section 47(6) of the Arms Export Control Act.

POLICY JUSTIFICATION

Peru—F-16 Aircraft

The Government of Peru has requested to buy ten (10) F-16C Block 70 aircraft; two (2) F-16D Block 70 aircraft; fourteen (14) F110-GE-129 engines (12 installed, 2 spares); fourteen (14) Improved Programmable Display Generators (12 installed, 2 spares); twelve (12) AIM-120C-8 Advanced Medium Range Air-to-Air Missiles (AMRAAM); fifty-two (52) LAU-129 guided missile launchers (48 installed, 4 spares); twelve (12) M61A1 anti-aircraft guns; fourteen (14) Embedded Global Positioning System Inertial Navigation Systems (12 installed, 2 spares); fourteen (14) AN/APG-83 active electronically scanned array Scalable Agile Beam Radars (12 installed, 2 spares); fourteen (14) Modular Mission Computers 7000AH (or next generation mission computer equivalent) (12 installed, 2 spares); twelve (12) AIM-9X Block II Sidewinder missiles; two (2) AIM-9X Block II Sidewinder tactical guidance units; one (1) AIM-9X Block II Sidewinder Captive Air Training Missile (CATM) guidance unit; two (2) AIM-9X Block II Sidewinder CATMs; and fourteen (14) Multifunctional Information Distribution System-Joint Tactical Radio Systems (12 installed, 2 spares). The following non-MDE items will also be included: Infrared Search and Track systems; missile warning systems; AN/ALQ-254 Viper Shield or equivalent electronic warfare systems; AN/AAQ-28 Litening targeting pods; Cartridge Actuated Devices/Propellant Actuated Devices (CAD/PAD); AIM-120C-8 AMRAAM CATMs; Joint Helmet Mounted Cueing Systems II (JHMCS II) helmet-mounted displays; ammunition; cartridges, chaffs, and flares; weapons support equipment; embedded communications security devices; AN/ALE-47 airborne countermeasures dispenser systems; countermeasure processors, sequencer switching units, and Control Display Units; AN/APX-127 advanced identification friend or foe or equivalent; AN/ARC-238 radios; KIV-78A and KY-58M cryptographic devices; AN/PYQ-10 Simple Key Loaders; night vision devices (NVD) and NVD intensifier tubes; ADU-890 and ADU-891 adaptor group computer test sets; Joint Mission Planning System; pylons, launcher adapters, weapon interfaces, and bomb and ejection racks; fuel tanks; Precision Measurement Equipment Laboratory (PMEL) and calibration support; Common Munitions Built-in-Test Reprogramming Equipment; targeting systems; spare and repair parts, consumables, and accessories; repair and return support; aircraft, engine, ground, and pilot life support equipment; classified and unclassified computer program identification number systems; classified and unclassified software and software support; classified and unclassified publications, manuals, and technical documentation; National Geospatial-Intelligence Agency (NGA) maps and mapping data; personnel training and training equipment, simulators, and training devices; studies and surveys; facilities and construction support transportation, ferry, and fuel support; U.S. Government and contractor engineering, technical, and logistics support services; and other related elements of logistics and program support. The estimated total cost is $3.42 billion.

This proposed sale will contribute to the foreign policy objectives of the U.S. by helping to improve the security of an important partner which is a force for political stability, peace, and economic progress in South America.

The proposed sale will enhance the Peruvian Air Force's ability to control its sovereign airspace, defend its territorial borders, and conduct precision air-to-ground attack operations in support of ground forces in counter-narcotics and counterterrorism operations. The sale will also enhance Peru's military partnership with the U.S. on an enduring long-term basis. Peru will have no difficulty absorbing these articles and services into its armed forces.

The proposed sale of this equipment and support will not alter the basic military balance in the region.

The principal contractors will be Lockheed Martin, located in Greenville, SC; General Electric Aerospace, located in Cincinnati, OH; and RTX Corporation, located in Arlington, VA. At this time, the U.S. Government is not aware of any offset agreement proposed in connection with this potential sale. Any offset agreement will be defined in negotiations between the purchaser and the contractor.

Implementation of this proposed sale will not require the assignment of any additional U.S. Government or contractor representatives to Peru.

There will be no adverse impact on U.S. defense readiness as a result of this proposed sale.

Transmittal No. 25-96

Notice of Proposed Issuance of Letter of Offer Pursuant to Section 36(b)(1) of the Arms Export Control Act

Annex

Item No. vii

(vii) Sensitivity of Technology:

1. The F-16 Block 70 is a fourth generation, single-engine, supersonic, all-weather multirole fighter aircraft that features advanced avionics and systems. It contains the General Electric F110-129D engine, AN/APG-83 radar, digital flight control system, embedded internal global navigation system, Joint Helmet Mounted Cueing Systems (JHMCS) II or Scorpion Hybrid Optical-based Inertial Tracker (HObIT) with night vision device compatibility, internal and external electronic warfare (EW) equipment, advanced identification friend or foe (AIFF), Link-16 datalink, and software computer systems.

a. The General Electric F110-GE-129D engine is an afterburning turbofan jet engine that powers the F-16. Engine spare modules are kits made up of spare engine components including the following modules: inlet fan, core engine, fan drive turbine, augmenter duct and nozzle, and gear box.

b. The Modular Mission Computer 7000AHC is the central aircraft computer of the F-16. It serves as the hub for all aircraft subsystems and avionics data transfer.

c. The Improved Programmable Display Generator and color multifunction displays utilize ruggedized commercial liquid crystal display technology that is designed to withstand the harsh environment found in modern fighter cockpits. The display generator is the fifth-generation graphics processor for the F-16. Through the use of state-of-the-art microprocessors and graphics engines, it provides orders of magnitude increases in throughput, memory, and graphics capabilities.

d. The APG-83 Scalable Agile Beam Radar is an active electronically scanned array radar upgrade for the F-16. It includes higher processor power, higher transmission power, more sensitive receiver electronics, and synthetic aperture radar, which creates higher-resolution ground maps from a greater distance than existing mechanically scanned array radars (e.g., APG-68). The upgrade features an increase in the detection range of air targets, increases in processing speed and memory, and significant improvements in all modes.

e. The Embedded Global Positioning System/Inertial Navigation System with Selective Availability Anti-Spoofing Module (SAASM)—or M-Code receiver when available—and Precise Positioning Service is a self-contained navigation system that provides the following: acceleration, velocity, position, attitude, platform azimuth, magnetic and true heading, altitude, body angular rates, time tags, and coordinated universal time (UTC) synchronized time. SAASM or M-Code enables the GPS receiver access to the encrypted P(Y or M) signal, providing protection against active spoofing attacks.

f. The integrated EW suite provides passive radar warning, wide spectrum radio frequency jamming, and control and management of the entire EW system. This system is anticipated to be internal to the aircraft although mounted pod variants are used in certain circumstances.

g. The Multifunction Information Distribution System Joint Tactical Radio System is a four-channel software programmable radio for Link-16 digital voice communications and datalink, Tactical Air Navigation, and advanced waveforms. Link-16 is a command, control, communications, and intelligence system incorporating high-capacity, jam-resistant, digital communication links for exchange of near real-time tactical information, including both data and voice, among air, ground, and sea elements.

2. The LAU-129 guided missile launcher is capable of launching the Air Intercept Missile (AIM)-9 family of missiles or AIM-120 Advanced Medium Range Air-to-Air Missile (AMRAAM). The LAU-129 launcher provides the mechanical and electrical interface between the missile and aircraft.

3. The M61A1 anti-aircraft gun is a six-barreled automatic cannon chambered in 20x120 mm with a cyclic rate of fire of 2,500-6,000 rounds per minute. This weapon is a hydraulically powered air-cooled Gatling gun used to damage and destroy aerial targets, suppress and incapacitate personnel targets, and damage and destroy moving and stationary light material targets.

4. AN/ARC-238 radio with HAVE QUICK II is a voice communications radio system that is equipped with HAVE QUICK II, which employs cryptographic technology. Other waveforms may be included as needed.

5. The AN/APX-127 AIFF is a system capable of transmitting and interrogating Mode 5. The AN/APX-127 is a form, fit, and function refresh of the AN/APX-126 and is the next generation to be produced.

6. The AN/ALE-47 airborne countermeasures dispenser system provides an integrated threat-adaptive, computer-controlled capability for dispensing chaff, flares, and active radio frequency expendables. The system is internally mounted and may be operated as a stand-alone system or may be integrated with other on-board EW and avionics systems. The AN/ALE-47 uses threat data received over the aircraft interfaces to assess the threat situation and determine a response. Expendable routines tailored to the immediate aircraft and threat environment may be dispensed using one of four operational modes.

7. The KY-58 is a secure voice module primarily used to encrypt radio communication to and from military aircraft and other tactical vehicles.

8. The KIV-78 is a cryptographic appliqué for AIFF. It can be loaded with Mode 5 classified elements.

9. The AN/PYQ-10 Simple Key Loader is a handheld device used for securely receiving, storing, and transferring data between compatible cryptographic and communications equipment.

10. The Joint Mission Planning System is a multi-platform, computer-based mission planning system. Its modular suite of systems is tailored to user needs, allowing operators of various aircraft to install planning modules required for flight planning, weapons delivery planning, post-flight debrief, and operational integration.

11. The Joint Helmet Mounted Cueing System II or Scorpion HObIT is a device used in aircraft to project information to the pilot's eyes and aid in tasks such as cueing weapons and aircraft sensors to air and ground targets. This provides improvement for close combat targeting and engagement.

12. The AIM-9X Block II Sidewinder missile is a short-range air-to-air missile with a high off-boresight seeker, enhanced countermeasure rejection capability, low drag/high angle of attack airframe, and the ability to integrate the JHMCS. This potential sale will include AIM-9X guidance sections, Active Optical Target Detectors, training missiles, Captive Air Training Missiles (CATMs), and CATM guidance units.

13. The AIM-120C-8 AMRAAM is a supersonic, air-launched, aerial intercept guided missile featuring digital technology and micro-miniature solid-state electronics. AMRAAM capabilities include look-down/shoot-down, multiple launches against multiple targets, resistance to electronic countermeasures, and interception of high and low-flying and maneuvering targets. This potential sale will include CATMs and AMRAAM guidance and control sections.

14. The highest level of classification of defense articles, components, and services included in this potential sale is SECRET.

15. If a technologically advanced adversary were to obtain knowledge of the specific hardware and software elements, the information could be used to develop countermeasures that might reduce system effectiveness or be used in the development of a system with similar or advanced capabilities.

16. A determination has been made that Peru can provide substantially the same degree of protection for the sensitive technology being released as the U.S. Government. This sale is necessary in furtherance of the U.S. foreign policy and national security objectives outlined in the Policy Justification.

17. All defense articles and services listed in this transmittal have been authorized for release and export to the Government of Peru.

[FR Doc. 2026-01503 Filed 1-26-26; 8:45 am]

BILLING CODE 6001-FR-P